DEPARTMENT OF COMMERCE

International Trade Administration

[A-533-808]

Stainless Steel Wire Rods From India: Notice of Amended Final Results and Partial Rescission of Antidumping Duty Administrative Review

AGENCY: Import Administration, International Trade Administration, Department of Commerce.

ACTION: Amended Final Results and Partial Rescission of Antidumping Duty Administrative Review.

EFFECTIVE DATE: June 27, 2003.

FOR FURTHER INFORMATION CONTACT: Jonathan Herzog, Stephen Bailey, or Robert Bolling, AD/CVD Enforcement Group III, Office 9, Import Administration, International Trade Administration, U.S. Department of Commerce, 14th Street and Constitution Avenue, NW., Washington, DC 20230; telephone: (202) 482-4271, (202) 482-1102, and (202) 482-3434, respectively.

Amendment of Final Results

On May 8, 2003, the Department of Commerce (“the Department”) published in the Federal Register the final results of its administrative review of stainless steel wire rods (“SSWR”) from India for the period December 1, 2000, through November 30, 2001. See Stainless Steel Wire Rods From India: Final Results and Partial Rescission of Antidumping Duty Administrative Review, 68 FR 26288 (May 15, 2003) and accompanying Issues and Decisions Memorandum (“Final Results”).

On May 16, 2002, petitioner Carpenter Technology Corporation timely filed ministerial error allegations, pursuant to section 351.224(c)(2) of the Department's regulations. Respondent, Mukand, Limited (“Mukand”) did not file rebuttal comments. Respondent, the Viraj Group, Limited (“the Viraj Group”) filed ministerial error allegations on May 27, 2003, and on June 2, 2003, petitioner filed rebuttal comments.

As a result of our analysis of respondent's and petitioner's comments, the Department is amending the Final Results in the antidumping administrative review of stainless steel wire rods from India covering the period December 1, 2000 through November 30, 2001, for Mukand and the Viraj Group.

Scope of the Review

The merchandise under review is certain stainless steel wire rods, which are hot-rolled or hot-rolled annealed and/or pickled rounds, squares, octagons, hexagons or other shapes, in coils. SSWR are made of alloy steels containing, by weight, 1.2 percent or less of carbon and 10.5 percent or more of chromium, with or without other elements. These products are only manufactured by hot-rolling and are normally sold in coiled form, and are of solid cross section. The majority of SSWR sold in the United States are round in cross-section shape, annealed and pickled. The most common size 5.5 millimeters in diameter.

The SSWR subject to this review are currently classifiable under subheadings 7221.00.0005, 7221.00.0015, 7221.00.0030, 7221.00.0045, and 7221.00.0075 of the Harmonized Tariff Schedule of the United States (“HTSUS”). Although the HTSUS subheadings are provided for convenience and customs purposes (as of March 1, 2003, renamed the U.S. Bureau of Customs and Border Protection), the written description of the merchandise under review is dispositive of whether or not the merchandise is covered by the review.

Ministerial Errors

A ministerial error is defined in § 351.224(f) of the Department's regulations as “an error in addition, subtraction, or other arithmetic function, clerical error resulting from inaccurate copying, duplication, or the like, and any other similar type of unintentional error which the Secretary considers ministerial.” Section 351.224(e) of the Department's regulations provides that we “will analyze any comments received and, if appropriate * * * correct any ministerial error by amending the final results of review * * * ” After reviewing interested parties’ allegations, we have determined, in accordance with § 351.224 of the Department's regulations, that the Final Results includes the ministerial errors discussed below.

Mukand

Comment 1: Facts Available

Petitioner alleges that the Department understated the United States weighted-average price and entered value used to calculate the facts otherwise available rate that was applied to Mukand's constructed export price (“CEP”) sales. Specifically, petitioner argues that the Department erroneously derived the U.S. price by dividing quantity by value. In addition, petitioner states that the Department erroneously used an amount for the entered value that differs from the weighted-average entered value calculated for Mukand's EP sales. As a result, petitioner contends that these errors understate the importer-specific assessment rate. To correct these errors, petitioner argues that the Department should use the actual calculated weighted-average U.S. price and entered value of Mukand's EP sales in determining the facts available rate applied to Mukand's CEP sales.

Mukand did not file rebuttal comments to this ministerial error.

Department's Position: For the Final Results, the Department applied facts otherwise available to Mukand's CEP sales in the United States. See Final Results, at Comment 2 and 3. As facts otherwise available, the Department calculated a weighted-average U.S. price of Mukand's reported EP sales and substituted the weighted-average price for Mukand's reported CEP sales. See Final Results, at Comment 3. However, as the petitioner correctly contends, in calculating the facts otherwise available rate, the Department first calculated a weighted-average U.S. price, but then recalculated the U.S. price by dividing quantity by value. See Analysis Memorandum for Mukand, Limited, for the Final Results of the 2000-2001 Adminstrative Review of Stainless Steel Wire Rods from India, dated May 8, 2003 (“Mukand Final Analysis Memorandum”), at page 4. In addition, the Department erroneously calculated the entered value by using the entered value of Mukand's CEP sales, instead of the weighted-average entered value of Mukand's EP sales. See Mukand Final Analysis Memorandum. The result of these errors was to understate the total entered value to which facts otherwise available were to be applied, thus understating the importer-specific assessment rate.

To correct these errors, the Department has revised the final margin calculation program to apply the average net U.S. price of Mukand's EP sales to the weighted-average entered value of Mukand's EP sales. See Analysis Memorandum for the Amended Final Results of the 2000-2001 Administrative Review of Stainless Steel Wire Rods from India: Mukand, Limited, dated June 12, 2003 (“Amended Mukand Final Analysis Memorandum”), at page 1. Although these changes do not affect the overall weighted-average margin as published in the Federal Register notice for Mukand, they do adjust the adverse facts available applied to Mukand's CEP sales, and thus the importer-specific assessment rate.

The Viraj Group

Comment 2: Direct Material

The Viraj Group alleges that the Department double-counted sub-contracting labor in the calculation of the Viraj Group's total cost of production (“TOTCOM”) and constructed value (“CV”) for United States sales. The Viraj Group argues that the Department should not have included sub-contracting labor charges in the build up of TOTCOM and CV.

Petitioner did not provide rebuttal comments.

Department's Position: We agree with the Viraj Group. Our examination of the Department's labor calculation reveals that the programming language is not in error, but reflects the sum of the subcontracting expenses (DIRLABCV) and the direct labor expenses (DIRLABCO), as intended by the Department. However, further examination of our computer program for the Final Results reveals that the Department overstated the amount of total material cost required to produce a billet used in products sold in the United States. The Department inadvertently replaced the transfer price reported in the CV database with the total cost of manufacturing as reported in the Viraj Group's section D database. Rather, the Department intended to replace the transfer price reported by the Viraj Group in the CV database with the direct material cost of each respective model as it was reported in the section D database. See Analysis for the Amended Final Results of the Antidumping Duty Administrative Review of Stainless Steel Wire Rods from India—the Viraj Group, Limited (“the Viraj Group”) (“Viraj Group Final Amended Analysis Memorandum”) from Stephen Bailey to Robert Bolling dated June 12, 2003, at page 1. Therefore, for these amended final results of review, we have replaced the inappropriate value for material cost hard coded into our final model match and margin programs with the value of the total direct material cost found on the Viraj Group's section D database.

Comment 3: Interest Expense

The Viraj Group alleges that the Department incorrectly included interest expenses not related to the Viraj Group's actual interest cost in calculating the interest expense ratio for COP.

Petitioner argues that the Department correctly added all interest expenses when it re-calculated the Viraj Group's interest expense ratio. Petitioner maintains that in the Final Results the Department determined to include all interest expenses reported in the Viraj Group's financial statements in the calculation of credit expenses. See Final Results, at Comment 11. Petitioner further contends that the decision by the Department to include all interest expenses in calculating a revised interest expense ratio for the Viraj Group is methodological and not clerical.

Department's Position: We agree with the Viraj Group. In the Final Results, the Department inadvertently double-counted the Viraj Group's interest expenses in the total cost of manufacturing calculation. The Viraj Group reported on page 4 of its December 2, 2002 section D supplemental questionnaire response (“section D supplemental response”) that it used two different methodologies to calculate its reported interest expenses in two separate interest fields, INTEX and INTEX2 for the cost database and INTEXCV and INTEXCV2 for the CV database. In the first methodology, the Viraj Group reported a reduced amount of interest expense based on its claims that it is not required to pay all of the interest owed on its bank loans due to its alleged bankruptcy protection and reorganization (“BIFR”) rehabilitation status (INTEX and INTEXCV). The second methodology reported by the Viraj Group calculates the total interest expense of the Viraj Group based on all of the loans owed without regard to the Viraj Group's alleged BIFR status (INTEX2 and INTEXCV2) as instructed in the Original Questionnaire, dated January 29, 2002, at page D-17. For the Final Results, the Department added these two amounts of interest to obtain the total amount of interest expense reported by the Viraj Group. See the model match and margin programs for the Final Results at lines 579 and 273, respectively. However, further examination of the record reveals that this calculation was in error because it added both the theoretical and actual interest expense amounts for the Viraj Group. The section D supplemental response demonstrates that the total amount of interest that the Viraj Group owes its banks, absent its alleged BIFR status (i.e., the second methodology), is reflected in its financial statements. Therefore, for these amended final results of review, we have revised our calculation to take into account all of the interest expense that the Viraj Group owes its banks, as well as the adjustment explained in the Preliminary Results. See Stainless Steel Wire Rods from India: Preliminary Results and Partial Rescission of Antidumping Duty Administrative Review, 68 FR 1040 (January 8, 2003) (“Preliminary Results”) and accompanying Analysis for the Preliminary Results of Review for Stainless Steel Wire Rod from India for 2000-2001: The Viraj Group, Limited, at page 2. Accordingly, we did not take into account the Viraj Group's alleged BIFR status when calculating the Viraj Group's revised interest expense ratio. See Viraj Group Final Amended Analysis Memorandum from Stephen Bailey to Robert Bolling dated June 12, 2003, at page 2.

Amended Final Results

Pursuant to section 751(h) of the Act and in accordance with 19 CFR 351.224(e) of the Department's regulations, we are amending the Final Results to reflect the correction of the above-cited ministerial errors. The revised final weighted-average dumping margins are as follows:

Exporter/manufacturer | Original weighted average margin percent for final | Revised weighted average margin percent
Mukand | 26.38 | 26.38
The Viraj Group | 3.25 | 0.00

The revised cash deposit rates for Mukand and the Viraj Group shown above are effective on all shipments of the subject merchandise entered, or withdrawn from warehouse, for consumption on or after the date of publication of this notice, and will remain in effect until publication of the final results of the next administrative review.

Accordingly, the Department will determine, and the U.S. Bureau of Customs and Border Protection (“BCBP”) will assess, antidumping duties on all entries of subject merchandise from Mukand and the Viraj Group during the period December 1, 2000 through November 30, 2001, in accordance with these amended final results.

International Trade Commission Notification

These amended final results and notice are in accordance with sections 751(a)(1) of the Act and 19 CFR 351.221.

Dated: June 16, 2003.
Joseph Spetrini,
Acting Assistant Secretary for Import Administration.

[FR Doc. 03-16342 Filed 6-26-03; 8:45 am]

BILLING CODE 3510-DS-P